DEPARTMENT OF VETERANS AFFAIRS

[OMB Control No. 2900-0519]

Agency Information Collection (Locality Pay System for Nurses and Other Health Care Personnel) Activity Under OMB Review

AGENCY: Veterans Health Administration, Department of Veterans Affairs.

ACTION: Notice.

SUMMARY: In compliance with the Paperwork Reduction Act (PRA) of 1995 (44 U.S.C. 3501-21), this notice announces that the Veterans Health Administration, Department of Veterans Affairs, will submit the collection of information abstracted below to the Office of Management and Budget (OMB) for review and comment. The PRA submission describes the nature of the information collection and its expected cost and burden and includes the actual data collection instrument.

DATES: Comments must be submitted on or before January 18, 2012.

ADDRESSES: Submit written comments on the collection of information through http://www.Regulations.gov; or to VA's OMB Desk Officer, OMB Human Resources and Housing Branch, New Executive Office Building, Room 10235, Washington, DC 20503 (202) 395-7316. Please refer to “OMB Control No. 2900-0519” in any correspondence

FOR FURTHER INFORMATION CONTACT: Denise McLamb, Enterprise Records Service (005R1B), Department of Veterans Affairs, 810 Vermont Avenue NW, Washington, DC 20420, (202) 632-7479, fax (202) 273-0487 or email denise.mclamb@va.gov. Please refer to “OMB Control No. 2900-0519.”

SUPPLEMENTARY INFORMATION: Title: Locality Pay System for Nurses and Other Health Care Personnel.

OMB Control Number: 2900-0519.

Type of Review: Extension of a currently approved collection.

Abstract: VA Form 10-0132 is used to collect data from the Bureau of Labor Statistics or other third party industry surveys to determine locality pay system for certain health care personnel. VA medical facility Directors will use the data collected to determine the appropriate pay scale for registered nurses, nurse anesthetists, and other health care personnel.

An agency may not conduct or sponsor, and a person is not required to respond to a collection of information unless it displays a currently valid OMB control number. The Federal Register Notice with a 60-day comment period soliciting comments on this collection of information was published on October 12, 2011, at page 63356.

Affected Public: Business or other for-profit.

Estimated Annual Burden: 67 hours.

Estimated Average Burden per Respondent: 45 minutes.

Frequency of Response: Annually.

Estimated Number of Respondents: 90.

By direction of the Secretary.
Denise McLamb,
Program Analyst, Enterprise Records Service.

[FR Doc. 2011-32266 Filed 12-16-11; 8:45 am]

BILLING CODE 8320-01-P